DEPARTMENT OF THE INTERIOR

Bureau of Land Management

[ID-420-2824-DD-FM04]

Notice of Availability of a Final Environmental Impact Statement for the Eastside Township Fuels and Vegetation Project

AGENCY: Bureau of Land Management, Interior.

ACTION: Notice of availability.

SUMMARY: In accordance with the National Environmental Policy Act (NEPA) of 1969, as amended, and the Federal Land Policy and Management Act (FLPMA) of 1976, as amended, the Bureau of Land Management (BLM) hereby gives notice that the Final Environmental Impact Statement (EIS) for the proposed Eastside Township Fuels and Vegetation Project is available for public review. The BLM is the lead Federal agency for preparation of the EIS in compliance with the requirements of the NEPA and the Nez Perce National Forest is a Cooperating Agency.

DATES: The document will be available for 30 days following publication of a Notice of Availability (NOA) of this document, in the Federal Register, by the Environmental Protection Agency (EPA).

ADDRESSES: The Final EIS is available online at the BLM Web site: http://www.id.blm.gov/offices/cottonwood/index.htm (available March 15, 2007). Copies of the document can also be viewed at or obtained by contacting the BLM Cottonwood Field Office, 1 Butte Drive, Cottonwood, ID 83522; or e-mail to robbin_boyce@blm.gov.

FOR FURTHER INFORMATION CONTACT: Robbin Boyce at (208) 962-3245 or e-mail: robbin_boyce@blm.gov.

SUPPLEMENTARY INFORMATION: The Eastside Township Fuels and Vegetation Project (Eastside) is located in north central Idaho, near the southern portion of the Idaho Panhandle in Idaho County. The project area, which encompasses approximately 3,300 acres, borders the small, isolated town of Elk City and includes the surrounding wildland urban interface (WUI) areas. Actual BLM-administered lands to be treated total approximately 1,300 acres.

This landscape level project was developed to address increasing fuel loads resulting from combined effects of long-term fire suppression and an on-going mountain pine beetle epidemic in the Elk City area. The purpose of this project is to manage the fuels and vegetation conditions in the Elk City WUI area. The project objectives are to:

• Reduce the risk of high intensity wildland fire to life, property and natural resources and the likelihood of severe local fire effects by removing dead, dying, and downed trees that would otherwise result in high fuel loading;

• Manage forest stands to create conditions that will contribute to sustaining long-lived fire tolerant tree species by regenerating to western larch and Douglas-fir, and by retaining most Douglas-fir, western larch, and ponderosa pine;

• Create an upward trend in fish habitat condition; and

• Contribute to the economic and social well being of area users and local residents.

Existing and potential fuel loads would be reduced through a combination of vegetation manipulation and fuels treatments while supporting a long term upward trend in fish habitat condition. Treatments include removing dead and dying trees and selectively harvesting other trees in both lodgepole pine and mixed conifer stands. Fuel treatments include thinning, piling and burning, prescribed burning, and biomass utilization.

The Final EIS analyzes four alternatives based on issues identified during the scoping process. Alternatives include a no action alternative and the agency Preferred Alternative, Alternative B. Issues include hazardous fuels, watershed, fisheries, and road/trail access-transportation system. The Preferred Alternative proposes to treat about 1,300 acres requiring about 15.1 miles of temporary road construction. Upon completion of the project, including road decommissioning, there would be no net change of road density per square mile in the American River watershed and a decrease of 2.12 miles of permanent road in the project area.

The Preferred Alternative also proposes watershed improvements that would provide for an upward trend in aquatic habitat and water quality. These include riparian planting along 4.8 miles of the American River; decommissioning 1.9 miles of existing road; constructing 0.57 miles of new permanent road along the American River; improving stream crossings (two ford closures, one ford hardening, and two ATV bridge replacements); reconnecting Queen Creek with the American River; converting 1.6 miles of road to ATV trail; and recontouring 1.2 miles of streambank along the American River.

The Final EIS responds to public comments that were received on the Draft EIS.

The Nez Perce National Forest (NPNF) is a Cooperating Agency with specific expertise and interest in the project. The BLM proposes to use and construct roads on the NPNF to implement the Eastside project. The NPNF may authorize the use and construction of roads for the Eastside project based on the analysis in this Final EIS.

Stephanie Snook,
Acting District Manager.

[FR Doc. E7-8100 Filed 4-26-07; 8:45 am]

BILLING CODE 4310-GG-P